NUCLEAR REGULATORY COMMISSION

[Docket No. 52-011]

Southern Nuclear Operating Company; Notice of Extension of Comment Period for the Draft Environmental Impact Statement for an Early Site Permit (ESP) at the Vogtle Electric Generating Plant Site

Notice is hereby given that the U.S. Nuclear Regulatory Commission (NRC, the Commission) is extending the public comment period for NUREG-1872, Draft Environmental Impact Statement (DEIS) for an Early Site Permit (ESP) at the Vogtle Electric Generating Plant Site until Friday, December 28, 2007. The site is located on the southwest side of the Savannah River in eastern Burke County, Georgia.

A notice of availability of the draft environmental impact statement for an early site permit (ESP) at the Vogtle Electric Generating Plant site was published in the Federal Register on September 14, 2007, (72 FR 52586). The public comment period on the draft environmental impact statement was to have ended on November 28, 2007. A request for an extension of the comment period due to intermittent unavailability of the DEIS and associated reference materials through the NRC public webpage during the comment period was received by the NRC. Pursuant to Title 10 of the Code of Federal Regulations, Section 51.73, the comment period has been extended by 30 days to December 28, 2007. The purpose of this notice is to inform the public that the comment period for NUREG-1872, “Draft Environmental Impact Statement (DEIS) for an Early Site Permit (ESP) at the Vogtle ESP Site,” has been extended to Friday, December 28, 2007. NUREG-1872, “Draft Environmental Impact Statement (DEIS) for an Early Site Permit (ESP) at the Vogtle ESP Site,” is available for public inspection in the NRC Public Document Room (PDR) located at One White Flint North, 11555 Rockville Pike (first floor), Rockville, Maryland 20852, or from the Publicly Available Records (PARS) component of NRC's Agencywide Documents Access and Management System (ADAMS), and has also been placed directly on the NRC Web site at http://www.nrc.gov. ADAMS is accessible from the NRC Website at http://www.nrc.gov/reading-rm/adams.html, the Public Electronic Reading Room (PERR). The ADAMS accession number for Volume I of the DEIS is ML072410045 and Volume II of the DEIS is ML072410049. Persons who do not have access to ADAMS or who encounter problems in accessing the documents located in ADAMS should contact the PDR reference staff at 1-800-397-4209, 301-415-4737, or by e-mail to pdr@nrc.gov. In addition, the Burke County Library, 130 Highway 24 South, Waynesboro, Georgia, has agreed to make the DEIS available for public inspection.

Members of the public may send written comments on the DEIS for the Vogtle ESP to the Chief, Rulemaking, Directives, and Editing Branch, Division of Administrative Services, Office of Administration, Mailstop T-6D59, U.S. Nuclear Regulatory Commission, Washington, DC 20555-0001, and should cite the publication date and page number of this Federal Register Notice. Comments may also be delivered to Room T-6D59, Two White Flint North, 11545 Rockville Pike, Rockville, Maryland from 7:30 a.m. to 4:15 p.m., during Federal workdays. To be considered, written comments should be postmarked by December 28, 2007. Electronic comments may be sent by the Internet to the NRC at VOGTLE_EIS@nrc.gov. Electronic submissions should be sent no later than December 28, 2007. Comments will be available electronically and accessible through the NRC's PERR link at http://www.nrc.gov/reading-rm/adams.html.

FOR FURTHER INFORMATION CONTACT: Mark Notich, Project Manager, Environmental Projects Branch 1, Division of Site and Environmental Reviews, U.S. Nuclear Regulatory Commission, Washington, DC 20555-0001, (301) 415-3053 or by e-mail at mdn@nrc.gov.

Dated at Rockville, Maryland, this 12th day of December, 2007.
For the Nuclear Regulatory Commission.
Nilesh C. Chokshi,
Acting Director, Division of Site and Environmental Reviews, Office of New Reactors.

[FR Doc. E7-24472 Filed 12-17-07; 8:45 am]

BILLING CODE 7590-01-P